DEPARTMENT OF THE INTERIOR

Bureau of Land Management

[MT-929-01-1420-BJ]

Montana: Filing of Plat of Survey

AGENCY: Bureau of Land Management, Montana State Office, Interior.

ACTION: Notice.

SUMMARY: The plat of the following described land is scheduled to be officially filed in the Montana State Office, Billings, Montana, thirty (30) days from the date of this publication.

Principal Meridian, Montana

T. 18 N., Rs. 56 and 57 E.

The plat, representing the dependent resurvey of portions of the 14th Auxiliary Meridian East, through Township 18 North, the subdivisional lines and the adjusted original meanders of the left bank of the Yellowstone River, downstream, through sections 25 and 30, the survey of a medial line of two relicted channels, a certain partition line and certain meanders of the present left bank of the Yellowstone River, in Township 18 North, Ranges 56 and 57 East, of the Principal Meridian, in the State of Montana, was accepted July 27, 2001.

The survey was requested by the Miles City Field Office and was necessary to identify accretions and delineate federal interest lands in sections 25 and 30 of the subject townships.

A copy of the preceding described plat will be immediately placed in the open files and will be available to the public as a matter of information.

If a protest against this survey, as shown on this plat, is received prior to the date of the official filings, the filings will be stayed pending consideration of the protests.

This particular plat will not be officially filed until the day after all protests have been accepted or dismissed and become final or appeals from the dismissal affirmed.

FOR FURTHER INFORMATION CONTACT: Bureau of Land Management, 5001 Southgate Drive, P.O. Box 36800, Billings, Montana 59107-6800.

Dated: August 3, 2001.
Steven G. Schey,
Chief Cadastral Surveyor, Division of Resources.

[FR Doc. 01-23738 Filed 9-21-01; 8:45 am]

BILLING CODE 4310-DN-P